DEPARTMENT OF DEFENSE

Department of the Air Force

Record of Decision for the Proposal To Improve F-22 Operational Efficency at Joint Base Elmendorf-Richardson, Alaska

AGENCY: Department of the Air Force, Department of Defense.

ACTION: Notice of Availability of a Record of Decision.

SUMMARY: The United States Air Force signed the Record of Decision for the Proposal to Improve F-22 Operational Efficency at Joint Base Elmendorf-Richardson, Alaska on August 8, 2018.

ADDRESSES: For further information contact: Ms. Melissa Markell, AFCEC/CZN, 2261 Hughes Ave., Ste. 155, JBSA Lackland, TX 78236, ph: (210) 925-2728.

SUPPLEMENTARY INFORMATION: The Record of Decision reflects the Air Force decision to implement the Final Environmental Impact Statement Preferred Alternative, Alternative F, which consists of extending Runway 16/34 to the north. During the time that all prepatory actions, including funding, agency coordination, and construction are being implemented for Alternative F, the Air Force will implement Alternative A for more efficient flight operations.

The decision was based on matters discussed in the Proposal to Improve F-22 Operational Efficency at Joint Base Elmendorf-Richardson, Alaska, Final Environmental Impact Statement, contributions from the public and regulatory agencies, and other relevant factors. The Final Environmental Impact Statement was made available to the public on February 23, 2018 through a Notice of Availability published in the Federal Register (Volume 83, Number 37, page 8074) with a 30-day wait period that ended on March 25, 2018.

Authority: This Notice of Availability is published pursuant to the regulations (40 CFR part 1506.6) implementing the provisions of the National Environmental Policy Act of 1969 (42 U.S.C.. 4321 et seq.) and the Air Force's Environmental Impact Analysis Process (32 CFR parts 989.21(b) and 989.24(b)(7)).

Henry Williams,
Air Force Federal Register Liaison Officer.

[FR Doc. 2018-18274 Filed 8-22-18; 8:45 am]

BILLING CODE 5001-10-P